FEDERAL COMMUNICATIONS COMMISSION

[CG Docket No. 03-123; DA 09-1436]

Consumer and Governmental Affairs Bureau Seeks To Refresh the Record on Petition To Mandate Captioned Telephone Relay Service

AGENCY: Federal Communications Commission.

ACTION: Notice.

SUMMARY: In this document, the Commission, via the Consumer and Governmental Affairs Bureau (Bureau), seeks to refresh the record on a petition filed by various consumer groups requesting that the Commission initiate a rulemaking to make Captioned Telephone Relay Service (CTS) a mandatory form of telecommunications relay service (TRS). This issue has been raised again in a recently filed supplement to the petition, and comment is sought on the supplement as well.

DATES: Comments are due on or before July 27, 2009. Reply comments are due on or before August 10, 2009.

ADDRESSES: Interested parties may submit comments and reply comments identified by [CG Docket No. 03-123], by any of the following methods:

• Federal eRulemaking Portal: http://www.regulations.gov. Follow the instructions for submitting electronic filings.

• Federal Communications Commission's Electronic Comment Filing System (ECFS): http://www.fcc.gov/cgb/ecfs. Follow the instructions for submitting electronic filings.

• By filing paper copies.

For electronic filers through ECFS or the Federal eRulemaking Portal, in completing the transmittal screen, filers should include their full name, U.S. Postal Service mailing address, and [CG Docket No. 03-123]. Parties may also submit an electronic comment by Internet e-mail. To get filing instructions, filers should send an e-mail to ecfs@fcc.gov, and include the following words in the body of the message, “get form.” A sample form and directions will be sent in response.

Paper Filers: Parties who choose to file by paper must file an original and four copies of each filing. Filings can be sent by hand or messenger delivery, by commercial overnight courier, or by first-class or overnight U.S. Postal Service mail (although the Commission continues to experience delays in receiving U.S. Postal Service mail). All filings must be addressed to the Commission's Secretary, Office of the Secretary, Federal Communications Commission. The Commission's contractor will receive hand-delivered or messenger-delivered paper filings or electronic media for the Commission's Secretary at 236 Massachusetts Avenue, NE., Suite 110, Washington, DC 20002. The filing hours at this location are 8 a.m. to 7 p.m. All hand deliveries must be held together with rubber bands or fasteners. Any envelopes must be disposed of before entering the building.

Commercial mail and electronic media sent by overnight mail (other than U.S. Postal Service Express Mail and Priority Mail) must be sent to 9300 East Hampton Drive, Capitol Heights, MD 20743. U.S. Postal Service first-class, Express, and Priority mail should be addressed to 445 12th Street, SW., Washington, DC 20554.

FOR FURTHER INFORMATION CONTACT: Thomas Chandler, Consumer and Governmental Affairs Bureau, Disability Rights Office, at (202) 418-1475 (voice), (202) 418-0597 (TTY), or e-mail: Thomas.Chandler@fcc.gov.

SUPPLEMENTARY INFORMATION: This is a summary of the Commission's public notice in document DA 09-1436. Pursuant to 47 CFR 1.1206, this proceeding will be conducted as a permit-but-disclose proceeding in which ex parte communications are subject to disclosure. The full text of DA 09-1436 and subsequently filed documents in this matter will be available for public inspection and copying during regular business hours at the FCC Reference Information Center, Portals II, 445 12th Street, SW., Room CY-A257, Washington, DC 20554. DA 09-1436 and copies of subsequently filed documents in this matter may also be purchased from the Commission's duplicating contractor at Portals II, 445 12th Street, SW., Room CY-B402, Washington, DC 20554. Customers may contact the Commission's contractor at its Web site, http://www.bcpiweb.com, or by calling (800) 378-3160. DA 09-1436 and subsequently filed documents in this matter may also be found by searching ECFS at http://www.fcc.gov/cgb/ecfs (insert [CG Docket No. 03-123] into the Proceeding block).

To request materials in accessible formats for people with disabilities (Braille, large print, electronic files, audio format), send an e-mail to fcc504@fcc.gov or call the Consumer and Governmental Affairs Bureau at (202) 418-0530 (voice), (202) 418-0432 (TTY). DA 09-1436 can also be downloaded in Word or Portable Document Format (PDF) at: http://www.fcc.gov/cgb/dro/trs.html.

Synopsis

CTS is a form of TRS that permits persons with a hearing disability to simultaneously listen to what the other party is saying and read captions of what the other party is saying on the same device. In 2003, the Commission recognized CTS as a form of TRS eligible for compensation from the Interstate TRS Fund, but did not make it a mandatory service. See Telecommunications Relay Service and Speech-to-Speech Services for Individuals with Hearing and Speech Disabilities, CC Docket No. 98-67, Declaratory Ruling, FCC 03-190, published at 68 FR 55898, September 29, 2003.

In 2005, a petition was filed by various consumer groups requesting that the Commission initiate a rulemaking to make CTS a mandatory form of TRS. The Bureau released a Public Notice seeking comment on the petition. See Petition for Rulemaking Filed Concerning Mandating Captioned Telephone Relay Service and Authorizing Internet Protocol (IP) Captioned Telephone Relay Service, CG Docket No. 03-123, Public Notice, DA 05-2961, published at 70 FR 71849, November 30, 2005.

On June 10, 2009, some of the parties to the original petition filed a supplement reiterating their request for rulemaking to make CTS a mandatory service. See Telecommunications Relay Service and Speech-to-Speech Services for Individuals with Hearing and Speech Disabilities, CG Docket 03-123, Supplement to Petition to Mandate Captioned Telephone Relay Service.

Federal Communications Commission.
Suzanne M. Tetreault,
Acting Deputy Chief, Consumer and Governmental Affairs Bureau.

[FR Doc. E9-18862 Filed 8-6-09; 8:45 am]

BILLING CODE 6712-01-P